COMMISSION ON CIVIL RIGHTS

Agenda and Notice of Public Meeting of the West Virginia Advisory Committee

Notice is hereby given, pursuant to the provisions of the rules and regulations of the U.S. Commission on Civil Rights (Commission) and the Federal Advisory Committee Act (FACA), that a planning meeting of the West Virginia Advisory Committee to the Commission will convene at 10:00 a.m. (EDT), on Monday, August 25, 2014, in the Board Room of the WV Human Rights Commission, 1321 Plaza East, Room 108 A, Charleston, WV 2530. The purpose of the meeting is to select the topic of the Committee's civil rights project and discuss and plan the future public briefing meeting on the topic.

Members of the public are entitled to submit written comments. The comments must be received in the regional office by Wednesday, September 24, 2014. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at 202-376-7533.

Persons needing accessibility services should contact the Eastern Regional Office at least 10 working days before the scheduled date of the meeting.

Records generated from this meeting may be inspected and reproduced at the Eastern Regional Office, as they become available, both before and after the meeting. Persons interested in the work of this advisory committee are advised to go to the Commission's Web site, www.usccr.gov, or to contact the Eastern Regional Office at the above phone number, email or street address.

The meetings will be conducted pursuant to the provisions of the rules and regulations of the Commission and FACA.

Dated August 4, 2014.
David Mussatt,
Chief, Regional Programs Unit.

[FR Doc. 2014-18696 Filed 8-6-14; 8:45 am]

BILLING CODE 6335-01-P